DEPARTMENT OF THE INTERIOR

Bureau of Land Management

[BLM_AK_FRN_MO4500181306]

Notice of Availability of the Record of Decision for the Alaska Native Claims Settlement Act 17(d)(1) Withdrawals Final Environmental Impact Statement, Alaska

AGENCY: Bureau of Land Management, Interior.

ACTION: Notice of availability.

SUMMARY: The Bureau of Land Management (BLM) announces the availability of the Record of Decision (ROD) for the Alaska Native Claims Settlement Act (ANCSA) 17(d)(1) Withdrawals Final Environmental Impact Statement (EIS). This ROD describes the decision rationale for the selection of the No Action Alternative. The ROD also describes the basis for Secretarial rescission of Public Land Order (PLO) Nos. 7899, 7900, 7901, 7902, and 7903. Any order rescinding these PLOs will be published separately.

DATES: The Secretary of the Interior signed the ROD on August 23, 2024. Any order rescinding PLOs will be published in the Federal Register and state its effective date.

ADDRESSES: The ROD is available via the internet at: https://eplanning.blm.gov/eplanning-ui/project/2018002/510.

FOR FURTHER INFORMATION CONTACT: Racheal Jones, BLM Project Manager, telephone (907) 290-0307; address ANCSA 17(d)(1) EIS, BLM Anchorage District Office, Attn: Racheal Jones, 4700 BLM Road, Anchorage, Alaska 99507; email rajones@blm.gov. Individuals in the United States who are deaf, blind, hard of hearing, or have a speech disability may dial 711 (TTY, TDD, or TeleBraille) to access telecommunications relay services for contacting Ms. Jones. Individuals outside the United States should use the relay services offered within their country to make international calls to the point-of-contact in the United States.

SUPPLEMENTARY INFORMATION: The U.S. Department of the Interior (DOI), BLM Alaska, prepared the ANCSA 17(d)(1) Withdrawals EIS to evaluate the effects of any Secretarial decision to revoke withdrawals established following enactment of ANCSA section 17(d)(1) affecting the lands described in PLO Nos. 7899 through 7903. PLO Nos. 7900, 7901, 7902, and 7903 would have revoked withdrawals on lands in the Ring of Fire, Bay, Bering Sea-Western Interior, and East Alaska planning areas, respectively. These PLOs were signed on January 15 and 16, 2021; however, they were never published in the Federal Register. PLO No. 7899, which would have revoked withdrawals on lands in the Kobuk-Seward Peninsula planning area, was signed on January 11, 2021, and published in the Federal Register on January 19, 2021 (86 FR 5236).

Subsequently, the DOI identified certain procedural and legal defects in the decision-making process for these five PLOs, as described in the April 16, 2021, Federal Register notice (86 FR 20193), including an insufficient analysis under the National Environmental Policy Act (NEPA). The DOI extended the opening order for PLO No. 7899 until August 31, 2024, to provide an opportunity to review the decisions and to ensure the orderly management of the public lands (88 FR 21207). The BLM used this time to address identified deficiencies and to update the NEPA analysis. The Secretary identified the No Action Alternative (Alternative A) as the preferred alternative in the final EIS. A Notice of Availability for the ANCSA 17(d)(1) Withdrawals Final EIS was published in the Federal Register on July 5, 2024 (89 FR 55654). Any order rescinding these PLOs will be published separately with the effective date listed with that order.

(Authority: 40 CFR 1501.9(c)(5))

Deb Haaland,
Secretary of the Interior.

[FR Doc. 2024-19445 Filed 8-28-24; 8:45 am]

BILLING CODE 4331-10-P